DEPARTMENT OF VETERANS AFFAIRS

Enhanced-Use Lease Development of Property at the Department of Veterans Affairs Medical Center, Minneapolis, MN

AGENCY: Department of Veterans Affairs.

ACTION: Notice of intent of designate.

SUMMARY: The Secretary of the Department of Veterans Affairs (VA) is designating 0.5 acres of underutilized space at the Department of Veterans Affairs Medical Center, Minneapolis, Minnesota, for an enhanced-use leasing development. The Department intends to enter into a 35-year lease of real property with a selected lessee/developer who will finance, design, develop, maintain and manage a Federal Credit Union, at no cost to VA.

FOR FURTHER INFORMATION CONTACT: Vanessa Chambers, Capital Asset Management and Planning Service (182C), Department of Veterans Affairs, 810 Vermont Avenue, NW., Washington, DC 20420, (202) 565-6554.

SUPPLEMENTARY INFORMATION: 38 U.S.C. Section 8161 et seq. specifically provides that the Secretary may enter into an enhanced-use lease if he determines that at least part of the use of the property under the lease will be to provide appropriate space for an activity contributing to the mission of the Department; the lease will not be inconsistent with and will not adversely affect the mission of the Department; and the lease will enhance the property or result in improved services to veterans. This project meets these requirements.

Approved: April 2, 2003.
Anthony J. Principi,
Secretary of Veterans Affairs.

[FR Doc. 03-8726 Filed 4-9-03; 8:45 am]

BILLING CODE 8320-01-M